DEPARTMENT OF AGRICULTURE

Food and Nutrition Service

Agency Information Collection Activities: Supplemental Nutrition Assistance Program: State Agency Options for Standard Utility Allowances and Self-Employment Income

AGENCY: Food and Nutrition Service (FNS), USDA.

ACTION: Notice.

SUMMARY: In accordance with the Paperwork Reduction Act of 1995, this notice invites the general public and other public agencies to comment on this proposed information collection. This is a revision of a currently approved collection. This information collection addresses the State agency reporting and recordkeeping burden associated with the following State agency options under the Supplemental Nutrition Assistance Program (SNAP): establishing and reviewing standard utility allowances (SUAs) and establishing methodology for offsetting cost of producing self-employment income.

DATES: Written comments must be received on or before January 6, 2023.

ADDRESSES: The Food and Nutrition Service, USDA, invites interested persons to submit written comment.

• Preferred Method: Federal eRulemaking Portal. Go to http://www.regulations.gov, and follow the online instructions for submitting comments electronically.

• Mail: Send comments to Certification Policy Branch, Program Development Division, Food and Nutrition Service, 1320 Braddock Place, 5th Floor, Alexandria, Virginia 22314.

All responses to this notice will be summarized and included in the request for Office of Management and Budget (OMB) approval. All comments will be a matter of public record.

FOR FURTHER INFORMATION CONTACT: Requests for additional information or copies of this information collection should be directed to Muhammad Kara by telephone at 703-305-2022, by mail to the Certification Policy Branch, Program Development Division, Food and Nutrition Service, 1320 Braddock Place, 5th Floor, Alexandria, Virginia, 22314 or via email to SNAPCPBRules@usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program: State Agency Options for Standard Utility Allowances and Self-Employment Income.

Form Number: None.

OMB Number: 0584-0496.

Expiration Date: July 31, 2023.

Type of Request: Revision of a currently approved collection.

Abstract: The information collection addresses the mandatory State agency information and burden estimates associated with the following State agency options under SNAP: establishing and reviewing SUAs and establishing methodology for offsetting cost of producing self-employment income.

SNAP regulations at 7 CFR 273.9(d)(6)(iii) allow State agencies to establish SUAs in place of the actual utility costs incurred by a household. State agencies must review and adjust SUAs annually to reflect changes in the costs of utilities. As part of this annual update, State agencies may develop a new methodology and submit any updates to FNS via email for approval.

SNAP regulations at 7 CFR 273.11(b) allow State agencies to calculate a household's self-employment income by reducing the cost of producing such income. The regulations allow the State agencies, with approval from FNS, to establish the methodology for offsetting the costs of producing self-employment income, as long as the procedure does not increase program costs. Once approved by FNS via email, States can use these methodologies to determine net self-employment income for SNAP eligibility purposes.

Using FNS-388 and 388A (both approved under OMB Control Number 0584-0594; expiration date: 07/31/2023). States send aggregate level data on participation, benefits issued, and other basic program information to FNS using the Food Programs Reporting System (FPRS) at https://fprs.fns.usda.gov. This collection uses information submitted in these FNS approved forms as supplemental data. However, this collection is not seeking approval for burden hours associated with the use of these forms because the burden is already accounted for under OMB Control Number 0584-0594.

Reporting Estimate

In the process of renewing this collection, FNS increased the estimated number of responses States submit as part of their SUA submission review. FNS estimates that 53 State agencies will submit two responses each, which includes States' review of their preliminary SUA amounts and their final SUA amounts. In prior renewals, FNS did not delineate between these two submissions, but considered them part of one process. In this renewal, FNS chose to more clearly reflect the two responses States submit and adjust its estimate accordingly.

FNS asks States to submit preliminary SUA amounts voluntarily as part of their annual SUA update process. By collecting preliminary SUA estimates ahead of final annual updates, FNS can plan for any significant changes in SUA amounts which may considerably impact SNAP benefit amounts.

In FY 2022, FNS received final SUA amounts from all 53 State agencies. FNS did not collect preliminary SUA amounts in FY 2021 or FY 2020. However, in the past three years that FNS collected preliminary numbers, most States submitted these amounts, and 52 out of 53 State agencies submitted preliminary SUA amounts in FY 2022. For the purpose of this renewal, FNS estimates that all 53 State agencies will submit preliminary amounts in addition to their final SUA amounts, increasing the total annual responses to 106 (53 State agencies × 2 responses each).

While FNS is adding a response to this burden item, this update will only result in an increase of total annual responses, not total annual burden hours. FNS estimates that even with the newly delineated response, the total amount of time for States to review their SUA estimates (both preliminary and final) remains the same as the previously approved burden estimate of 1,325 hours. To reflect this change, FNS is modifying each response to an estimated 12.5 hours. Therefore, FNS projects a total annual burden of 1,325 hours and 106 responses for the review of SUA preliminary and final submissions.

Based on information provided in the Fourteenth Edition of the SNAP State Options Report,¹ 23 out of 53 State agencies have already incorporated a methodology for determining the cost of doing business in self-employment cases, which was the basis of the previous burden estimate. Over the next three years this collection covers, FNS estimates that five (5) State agencies will establish a new methodology for offsetting the cost of producing self-employment income, either for the first time or as an update to their current methodology. This estimate is based on consultations with three (3) FNS regional offices. FNS estimates that each of these five (5) responses will have a response time of 10 hours, for a total annual burden of 50 hours.

¹ The 14th Edition of the SNAP State Options Report summarizes information related to State policy and administrative options. The 14th edition reflects the most current information available and was published May 31, 2018. For more information, please visit https://www.fns.usda.gov/snap/waivers/state-options-report.

Recordkeeping Estimate

All 53 State agencies are required to keep and maintain one record of the information gathered and submitted to FNS for the SUA and self-employment options. FNS estimates a response time of 0.25 hours for this recordkeeping burdens.

Total Burden Estimate

For both reporting and recordkeeping, FNS projects a total annual burden of 1,388.25 hours and 164 responses for this collection. This revision results in a decrease in burden hours due to updated assumptions based on consultations with three (3) FNS regional offices.

Reporting Burden

Affected Public: State, Local, or Tribal Governments.

Estimated Number of Respondents: 53.

Estimated Number of Responses per Respondent: 2.09433962 hours.

Estimated Total Annual Responses: 111.

Estimated Time per Response: 12.39 hours.

Estimated Total Annual Burden on Respondents: 1,375 hours.

Recordkeeping Burden

Affected Public: State, Local, or Tribal Governments.

Estimated Number of Respondents: 53.

Estimated Number of Responses per Respondent: 1.

Estimated Total Annual Responses: 53.

Estimated Time per Response: 0.25 hours.

Estimated Total Annual Burden on Respondents: 13.25 hours.

See table below for estimated total annual burden for State agencies:

CFR citation | Respondent | Estimated number respondent | Responses annually per respondent | Total annual responses | Estimated average number of hours per response | Estimated total hours
Reporting Burden
7 CFR 273.9(d)(6)(iii) | State Agency—Review of SUA Preliminary and Final Submissions | 53 | 2 | 106 | 12.50 | 1,325.00
7 CFR 273.11(b) | State Agency—Review of Self-Employment Methodology | 23 | 1 | 5 | 10.00 | 50.00
| Total Reporting Burden | 53 | 2.09433962 | 111 | 12.3873874 | 1,375.00
Recordkeeping Burden
7 CFR 273.9(d)(6)(iii) and 7 CFR 273.11(b) | Recordkeeping Requirements for SUA and Self-Employment Methodologies | 53 | 1 | 53 | 0.25 | 13.25
| Total Recordkeeping Burden | 53 | 1 | 53 | 0.25 | 13.25
Total of Reporting and Recordkeeping Burden
| Total | 53 | 3.09433962 | 164 | 8.46493902 | 1,388.25

Tameka Owens,
Assistant Administrator, Food and Nutrition Service.

[FR Doc. 2022-24151 Filed 11-4-22; 8:45 am]

BILLING CODE 3410-30-P